DEPARTMENT OF TRANSPORTATION

Federal Highway Administration

Notice of Final Federal Agency Actions on Proposed Highway in Utah

AGENCY: Utah Department of Transportation (UDOT), Federal Highway Administration (FHWA), Department of Transportation.

ACTION: Notice of limitations on claims for judicial review of actions by UDOT and the National Park Service (NPS).

SUMMARY: The FHWA, on behalf of UDOT, is issuing this notice to announce actions taken by UDOT and NPS that are final Federal agency actions. The final agency actions relate to a proposed highway project, improvements to State Route 12 (SR-12), from milepost (MP) 14.42 to MP 18.16 in the Bryce Canyon National Park (BCRA), Garfield County, State of Utah. Those actions grant licenses, permits and/or approvals for the project. The Environmental Assessment prepared jointly by UDOT and NPS, and the Findings of No Significant Impact issued by UDOT and NPS, provide details on the Selected Alternative for the proposed improvements.

DATES: By this notice, FHWA, on behalf of UDOT, is advising the public of final agency actions subject to 23 U.S.C. 139(l)(1). A claim seeking judicial review of the Federal agency actions on the highway project will be barred unless the claim is filed on or before April 23, 2020. If the Federal law that authorizes judicial review of a claim provides a time period of less than 150 days for filing such claim, then that shorter time period still applies.

FOR FURTHER INFORMATION CONTACT: Naomi Kisen, Environmental Program Manager, UDOT Environmental Services, P.O. Box 143600, Salt Lake City, UT 84114; (801)-965-4005; email: nkisen@udot.gov. UDOT's normal business hours are 8 a.m. to 5 p.m. (Mountain Time Zone), Monday through Friday, except State and Federal holidays.

SUPPLEMENTARY INFORMATION: Effective January 17, 2017, FHWA assigned to UDOT certain responsibilities of FHWA for environmental review, consultation, and other actions required by applicable Federal environmental laws and regulations for highway projects in Utah, pursuant to 23 U.S.C. 327. Actions taken by UDOT on FHWA's behalf pursuant to 23 U.S.C. 327 constitute Federal agency actions for purposes of Federal law. Notice is hereby given that UDOT and the NPS have taken final agency actions subject to 23 U.S.C. 139(l)(1) by issuing licenses, permits, and approvals for the SR-12 Road Stabilization and Improvements project in the State of Utah.

The project proposes to construct a transportation solution to address long-term road stabilization near the 2017 landslide area, preserve infrastructure, and improve traffic mobility and safety along the existing SR-12 by providing a transportation corridor that improves access for vehicles, bicyclists, and pedestrians. The proposed project is on a 3.74-mile section of SR-12 between MP 14.42 and MP 18.16 in BRCA, Garfield County, Utah. These improvements were identified in the Environmental Assessment (EA) jointly prepared for the project by UDOT and NPS as Alternative 2. The project is included in UDOT's adopted 2020-2025 State Transportation Improvement Plan (STIP) as project number F-0012(43)15; PIN 15632.

The actions by UDOT and NPS, and the laws under which such actions were taken, are described in the EA approved on September 27, 2019, the UDOT FONSI (Finding of No Significant Impact for State Route 12 Road Stabilization and Improvements in Garfield County, Utah, Project No. F-0012(43)15) approved on October 10, 2019, the NPS FONSI (Finding of No Significant Impact, State Route 12 Road Stabilization and Improvements, approved on September 18, 2019), and other documents in the UDOT and NPS project records. The EA and the UDOT and NPS FONSIs are available for review by contacting UDOT at the address provided above. In addition, these documents can be viewed and downloaded from the UDOT project website at https://www.udot.utah.gov/projectpages/f?p=250%3A2007%3A%3A%3ANO%3A%3AP2007_EPM_PROJ_XREF_NO%2CP2007_PROJECT_TYPE_IND_FLAG%3A12995%2CA. The NPS FONSI is also available from the NPS project website at https://parkplanning.nps.gov/projectHome.cfm?projectID=81089. This notice applies to the EA, the FONSIs, the Section 4(f) determination, the NHPA Section 106 review, the Endangered Species Act determination, the NPS Non-Impairment Determination, the NPS determination to issue and the UDOT determination to acquire a permanent transportation easement, and all other UDOT, NPS and other federal agency decisions and other actions with respect to the project as of the issuance date of this notice and all laws under which such actions were taken, including but not limited to the following laws (including their implementing regulations):

1. General: National Environmental Policy Act [42 U.S.C. 4321-4351]; Federal-Aid Highway Act [23 U.S.C. 109 and 23 U.S.C. 128]; MAP-21, the Moving Ahead for Progress in the 21st Century Act [Pub. L. 112-141].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Safe Drinking Water Act (SDWA) [42 U.S.C. 300(f)-300(j)(6)]; Rivers and Harbors Act of 1899 [33 U.S.C. 401-406]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act [42 U.S.C. 9601-9675]; Superfund Amendments and Reauthorization Act of 1986; Resource Conservation and Recovery Act [42 U.S.C. 6901-6992(k)].

9. Noise: Federal-Aid Highway Act of 1970, Public Law 91-605 [84 Stat. 1713].

10. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species.

11. Permanent Transportation Easement and NPS Project Approval: 23 U.S.C. chapters 1 & 2; 23 CFR 710.601; The NPS Organic Act of 1916 and the General Authorities Act of 1970 [16 U.S.C. l-4]; NPS Director's Order #87D (NPS 2000).

(Catalog of Federal Domestic Assistance Program Number 20.205, Highway Planning and Construction. The regulations implementing Executive Order 12372 regarding intergovernmental consultation on Federal programs and activities apply to this program.)

Authority: 23 U.S.C. 139 (l)(1).

Issued on: November 18, 2019.
Ivan Marrero,
Division Administrator, Federal Highway Administration, Salt Lake City, Utah.

[FR Doc. 2019-25452 Filed 11-22-19; 8:45 am]

BILLING CODE 4910-RY-P